DEPARTMENT OF DEFENSE

48 CFR Parts 202 and 217

RIN 0750-AI23

Defense Federal Acquisition Regulation Supplement: Definition of “Congressional Defense Committees” (DFARS Case 2013-D027)

AGENCY: Defense Acquisition Regulations System, Department of Defense (DoD).

ACTION: Final rule.

SUMMARY: DoD is issuing a final rule amending the Defense Federal Acquisition Regulation Supplement (DFARS) to clarify the meaning of the phrase “congressional defense committees.”

DATES: Effective June 24, 2014.

FOR FURTHER INFORMATION CONTACT: Ms. Lee Renna, telephone 571-372-6095.

SUPPLEMENTARY INFORMATION:

I. Background

DoD is amending the DFARS to clarify the meaning of the phrase “congressional defense committees.” Generally, when this phrase appears in the DFARS, it has the same meaning as set forth in 10 U.S.C. 101(a)(16), i.e., the Committee on Armed Services and the Committee on Appropriations, of the Senate and of the House. In DFARS 202.101, a new paragraph has been added, indicating that the definition for “congressional defense committees” is in accordance with 10 U.S.C. 101(a)(16), or as otherwise specified by statute for particular applications. The definition at 202.101 will no longer include the Subcommittees on Defense of the Committees on Appropriation, in keeping with the definition at 10 U.S.C. 101(a)(16).

There are instances, however, when this definition may be modified to reflect the unique requirements of a specific law. Such is the case at DFARS 217.103. At DFARS subpart 217.1, which pertains to multiyear contracting, the definition for “congressional defense committees” is derived from DoD annual appropriations acts. As such, a new definition has been added, which also encompasses the Subcommittees on Defense of the Committees on Appropriations for the Senate and House.

II. Publication of This Final Rule for Public Comment Is Not Required by Statute

“Publication of proposed regulations,” 41 U.S.C. 1707, is the statute which applies to the publication of the Defense Federal Acquisition Regulation Supplement. Paragraph (a)(1) of the statute requires that a procurement policy, regulation, procedure, or form (including an amendment or modification thereof) must be published for public comment if it relates to the expenditure of appropriated funds, and has either a significant effect beyond the internal operating procedures of the agency issuing the policy, regulation, procedure or form, or has a significant cost or administrative impact on contractors or offerors. This final rule is not required to be published for public comment because it will not have a significant cost or administrative impact. These requirements affect only the internal operating procedures of the Government.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

The Regulatory Flexibility Act does not apply to this rule because this final rule does not constitute a significant DFARS revision within the meaning of FAR 1.501-1, and 41 U.S.C. 1707 does not require publication for public comment.

V. Paperwork Reduction Act

This rule does not contain any information collection requirements that require the approval of the Office of Management and Budget under the Paperwork Reduction Act (44 U.S.C. chapter 35).

List of Subjects in 48 CFR Parts 202 and 217

Government procurement.

Amy G. Williams,
Deputy, Defense Acquisition Regulations System.

Therefore, 48 CFR parts 202 and 217 are amended as follows:

1. The authority citation for 48 CFR parts 202 and 217 continues to read as follows:

Authority: 41 U.S.C. 1303 and 48 CFR chapter 1.

PART 202—DEFINITIONS OF WORDS AND TERMS

2. Amend section 202.101 by revising the definition of “congressional defense committees” to read as follows:

202.101 Definitions.

Congressional defense committees means—

(1) In accordance with 10 U.S.C. 101(a)(16), except as otherwise specified in paragraph (2) of this definition or as otherwise specified by statute for particular applications—

(i) The Committee on Armed Services of the Senate;

(ii) The Committee on Appropriations of the Senate;

(iii) The Committee on Armed Services of the House of Representatives; and

(iv) The Committee on Appropriations of the House of Representatives.

(2) For use in subpart 217.1, see the definition at 217.103.

* * * * *

PART 217—SPECIAL CONTRACTING METHODS

3. Amend section 217.103 by adding, in alphabetical order, the definition for “congressional defense committees” to read as follows:

217.103 Definitions.

* * * * *

Congressional defense committees means—

(1) The Committee on Armed Services of the Senate;

(2) The Committee on Appropriations of the Senate;

(3) The Subcommittee on Defense of the Committee on Appropriations of the Senate;

(4) The Committee on Armed Services of the House of Representatives;

(5) The Committee on Appropriations of the House of Representatives; and

(6) The Subcommittee on Defense of the Committee on Appropriations of the House of Representatives.

* * * * *

[FR Doc. 2014-14585 Filed 6-23-14; 8:45 am]

BILLING CODE 5001-06-P